DEPARTMENT OF TRANSPORTATION

Federal Aviation Administration

14 CFR Part 71

[Docket FAA-2003-16137; Airspace Docket 03-ANM-07]

Establishment of Class E Airspace; Lexington, OR

AGENCY: Federal Aviation Administration (FAA), DOT.

ACTION: Final rule.

SUMMARY: This final rule will establish Class E airspace at Lexington, OR. New Area Navigation (RNAV) Global Positioning System (GPS) Standard Instrument Approach Procedures (SIAPs) at Lexington Airport, Lexington, OR, makes this action necessary to add Class E airspace. This Class E airspace extending upward from 700 feet or more above the surface of the earth is necessary for the containment and safety of Instrument Flight Rules (IFR) aircraft transitioning to/from the en route environment and executing these SIAP procedures.

DATES: Effective Dates: 0901 UTC, January 20, 2005

FOR FURTHER INFORMATION CONTACT: Ed Haeseker, Federal Aviation Administration, Western En Route and Oceanic Operations, Airspace Branch, 1601 Lind Avenue SW., Renton, WA 98055-4056; telephone (425) 227-2527.

SUPPLEMENTARY INFORMATION:

History

On October 21, 2003, the FAA proposed to amend Title 14 Code of Federal Regulations part 71 (CFR part 71) to add Class E airspace at Lexington OR (69 FR 19317). A new RNAV GPS SIAP at the Lexington Airport makes it necessary to add controlled airspace for the containment and safety of IFR aircraft transitioning to/from the en route environment and executing these SIAP procedures.

Interested parties were invited to participate in this rule making proceeding by submitting written comments on the proposal to the FAA. No comments were received. Class E airspace designations are published in paragraph 6005 of FAA Order 7400.9M dated August 30, 2004, and effective September 16, 2004, which is incorporated by reference in 14 CFR part 71.1. The Class E airspace designations listed in this document will be published subsequently in that Order.

The Rule

This amendment to 14 CFR part 71 establishes Class E airspace at Lexington Airport, Lexington, OR. A new RNAV GPS SIAP at Lexington Airport makes it necessary for additional controlled airspace extending upward from 700 feet or more above the surface of the earth for the containment and safety of IFR aircraft transitioning to/from the en route environment and executing these SIAP procedures.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR part 71.1 of the Federal Aviation Administration Order 7400.9M, Airspace Designations and Reporting Points, dated August 30, 2004, and effective September 16, 2004, is amended as follows:

Paragraph 6005 Class E airspace areas extending upward from 700 feet or more above the surface of the earth.

* * * * *

ANM OR E5 Lexington, OR [Add]

Lexington Airport, Lexington, OR

(Lat. 45°27′15″N., long. 119°41′25″W.)

The airspace extending upward from 700 feet above the surface of the earth within a 7.0 mile radius of the Lexington Airport; that airspace extending upward from 1200 feet above the surface of the earth beginning at lat. 45°14′00″N., long 119°33′00″W.; to lat. 45°39′26″N., long. 121°08′59″W.; to lat. 45°48′00″N., long. 121°06′30″W.; to lat. 45°38′52″N., long. 120°09′08″W.; to lat. 45°36′12″N., long. 119°45′28″W.; to lat. 45°43′09″N., long. 119°11′57″W.; to lat. 45°31′26″N., long. 119°06′04″W.; thence to the beginning; excluding that airspace within Federal airways.

* * * * *

Issued in Seattle, Washington, on November 26, 2004.
Suzanne Alexander,
Acting Area Director, Western En Route and Oceanic Operations.

[FR Doc. 04-27686 Filed 12-16-04; 8:45 am]

BILLING CODE 4910-13-M